SMALL BUSINESS ADMINISTRATION

[Declaration of Economic Injury Disaster #9U63]

State of Florida (And Contiguous Counties in Alabama)

Bay, Brevard, Broward, Charlotte, Citrus, Dade, Duval, Franklin, Gulf, Hillsborough, Okaloosa, Santa Rosa and Taylor Counties and the contiguous counties of Baker, Calhoun, Clay, Collier, DeSoto, Dixie, Escambia, Glades, Hardee, Hendry, Hernando, Highlands, Indian River, Jackson, Jefferson, Lafayette, Lee, Levy, Liberty, Madison, Manatee, Marion, Monroe, Nassau, Orange, Osceola, Palm Beach, Pasco, Pinellas, Polk, Sarasota, Seminole, St. Johns, Sumter, Volusia, Wakulla, Walton and Washington in the State of Florida; and Covington and Escambia counties in the State of Alabama constitute an economic injury disaster loan area as a result of freezing temperatures beginning November 2002 and continuing through February 2003. Eligible small businesses and small agricultural cooperatives without credit available elsewhere may file applications for economic injury assistance as a result of this disaster until the close of business on January 2, 2004, at the address listed below or other locally announced locations: U.S. Small Business Administration, Disaster Area 2 Office, One Baltimore Place, Suite 300, Atlanta, GA 30308.

The interest rate for eligible small businesses and small agricultural cooperatives is 3.324 percent.

The numbers assigned for economic injury for this disaster are 9U6300 for Florida; and 9U6400 for Alabama.

(Catalog of Federal Domestic Assistance Program No. 59002)
Dated: April 2, 2003.
Hector V. Barreto,
Administrator.

[FR Doc. 03-8531 Filed 4-7-03; 8:45 am]

BILLING CODE 8025-01-P